DEPARTMENT OF ENERGY

Federal Energy Regulatory Commission

[Docket No. RP95-364-013]

Williston Basin Interstate Pipeline Company; Nomination Variance Credits Refund Report

January 19, 2001.

Take notice that on January 12, 2001, Williston Basin Interstate Pipeline Company (Williston Basin), tendered for filing with the Commission, its Nomination Variance Credits Refund Report made as a result of the Commission's Letter Order issued November 21, 2000 in the above referenced dockets.

Williston Basin states that on December 28, 2000, pursuant to Subsection 15.13.4 of the General Terms and Conditions of its FERC Gas Tariff, Second Revised Volume No. 1 and the November 21, 2000 Order, refunds related to calculated nominations variance charges incurred by Williston Basin's affiliates for the period July 1, 1996 through May 31, 2000 were made with interest through December 28, 2000 to all qualified shippers.

Any person desiring to protest said filing should file a protest with the Federal Energy Regulatory Commission, 888 First Street, NE., Washington, DC 20426, in accordance with Section 385.211 of the Commission's Rules and Regulations. All such protests must be filed on or before January 26, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2296 Filed 1-24-01; 8:45 am]

BILLING CODE 6717-01-M